DEPARTMENT OF TRANSPORTATION

Federal Aviation Administration

Child Restraint Systems (CRS)

AGENCY: Federal Aviation Administration, DOT.

ACTION: Notice of availability for public comment.

SUMMARY: This notice announces the availability of and requests comments on a proposed Technical Standard Order (TSO) pertaining to child restraint systems. The proposed TSO prescribes the minimum performance standards (MPS) that CRS must meet to identified with the marking “TSO-C100b.”

DATES: Comments must be received on or before October 15, 2001.

ADDRESSES: Send all comments on the proposed technical standard order to: Bobbie Smith, Technical Programs and Continued Airworthiness Branch, AIR-120, Aircraft Engineering Division, Aircraft Certification Service, Federal Aviation Administration, 800 Independence Avenue, SW., Washington, DC 20591. Or deliver comments to: Federal Aviation Administration, Room 815, 800 Independence Avenue, SW., Washington, DC 20591. Comments must identify the TSO file number: TSO-C100b.

FOR FURTHER INFORMATION CONTACT: John Petrakis, Technical Programs and Continued Airworthiness Branch, AIR-120, Aircraft Engineering Division, Aircraft Certification Service, Federal Aviation Administration, 800 Independence Avenue, SW., Washington, DC 20591, telephone (202) 267-9274 or FAX (202) 267-5340.

Comments Invited

Interested persons are invited to comment on this proposed TSO by submitting such written data, views, or arguments as they desire to the above specified address. Comments received on the proposed TSO may be examined, before and after the comment closing date, in Room 815, FAA Headquarters Building (FOB-10A), 800 Independence Avenue, SW., Washington, DC 20591, weekdays except Federal holidays, between 8:30 a.m. to 4:30 p.m. All communications received on or before the closing date for comments specified above will be considered by the Director, Aircraft Certification Service before issuing the final TSO.

Background

the proposed TSO provides MPS for CRS for use in aircraft to restrain infants and small children during all phases of flight.

On February 12, 1997, the White House Commission on Aviation Safety and Security (the Commission) issued a final report to President Clinton that included a recommendation on CRS use on aircraft during flight. This report stated in pertinent part that “[t]he FAA should * * * require that all occupants be restrained during takeoff, landing, and turbulent conditions, and that all infants and small children * * * be restrained in an appropriate child restraint system, such as child safety seats, appropriate to their height and weight.”

On February 18, 1998, the FAA published an Advance Notice of Proposed Rulemaking (ANPRM), in part, to respond to the Commission's recommendation. the notice requested public comment on issues related to the use of CRS in aircraft in order to ascertain the best regulatory approach to ensure the safety of children who are passengers in aircraft.

The FAA is developing a Notice of Proposed Rulemaking (NPRM) on the use of CRS on aircraft. We are considering whether to mandate the use of approved CRS on aircraft. This proposed TSO is essential to establishing a new and improved alternate means of approval for CRS used on aircraft.

Currently, Title 14 of the Code of Federal Regulations (14 CFR) §§ 91.107, 121.311, 125.211, and 135.128 set forth operational requirements on how CRS may be used on board aircraft. Under these regulations, today, a child under 2 years old may be held in an adult's lap throughout the flight, or parents may opt to use an approved CRS for children of this age group. If parents want to use a CRS, a separate passenger seat is required. If parents bought a ticket for the child, airlines are required to accommodate the use of approved CRS.

Performance and labeling requirements for CRS sold for use in the United States for both aircraft and automobiles are in 49 CFR 571.213, Federal Motor Vehicle Safety Standard, Standard No. 213 (FMVSS 213), Child restraint system. Certain CRS's that meet the requirements of FMVSS 213 for automobiles, such as booster seats and vest- and harness-type child restraint devices are prohibited for aircraft. Specifically, on June 4, 1996, the FAA, with the National Highway Traffic Safety Administration (NHTSA), withdrew its approval for using booster seats and vest- and harness-type child restraint devices during takeoff, landing, and ground movement but not in-flight. At the same time, the FAA emphasized its existing prohibition against the use, in all aircraft, of lap-held CRS (including belly belts).

We propose that TSO C100b, Child Restraint Systems (CRS) is suitable for any aircraft application. The proposed TSO references the Society of Automotive Engineers (SAE) Aerospace Standard (AS) 5276/1, “Performance Standard for Child Restraint Systems in Transport Category Airplanes.”

How To Obtain Copies

You can get a copy of the proposed TSO-C100b via FAA Internet website @ www.faa.gov/avr/air/airhome.htm or by request from the office listed above under “For Further Information Contact.”

You may buy copies of SAE AS 5276/1, AS 8049A, ARP 4466 and RP J211 from the Society of Automotive Engineers, Inc., Department 331, 400 Commonwealth Drive, Warrendale, PA 15096-0001. Copies also can be obtained through the SAE Internet website @ www.sae.org.

You may buy copies of 14 CFR part 21, Subpart O, 14 CFR Part 25, and 49 CFR parts 571 and 572 from the Superintendent of Documents, U.S. Government Printing Office, Washington, DC 20402-9325. Copies also can be obtained from the Government Printing Office (GPO), electronic CFR Internet website @ www.access.gpo.gov/ecfr/.

You may get the following publications free of charge: Advisory Circular (AC) 20-110, “Index of Aviation Technical Standard Order,” AC20-36, “Index of Articles Certified under the Technical Standard Order” System,” AC91-62, “use of Child Seats in Aircraft,” DOT/FAA/AR-00/12, Aircraft Materials Fire Test Handbook'' and TSO-C22g, “Safety Belts” may be obtained from the U.S. Department of Transportation, Subsequent Distribution Office, Ardmore East business Center, 3341 Q 75th Avenue, Landover, MD 20785, telephone (301) 322-44779 or FAX (301) 386-5394. Copies also may be obtained from the FAA Internet website @ www.faa.gov/avr/air/airhome.htm and select from the “Available Information” drop down list.

Issued in Washington, DC, on August 1, 2001.
David Hempe,
Acting Manager, Aircraft Engineering Division, Aircraft Certification Service.

[FR Doc. 01-19739 Filed 8-6-01; 8:45 am]

BILLING CODE 4910-13-M